NATIONAL AERONAUTICS AND SPACE ADMINISTRATION

48 CFR Parts 1808 and 1851

RIN 2700-AC33

Authorization of Contractor Use of Interagency Fleet Management System (IFMS) Vehicles

AGENCY: National Aeronautics and Space Administration.

ACTION: Final rule.

SUMMARY: This final rule revises the NASA FAR Supplement (NFS) by requiring an internal Agency clearance before authorizing contractors' use of interagency fleet management system (IFMS) vehicles. This final rule also makes editorial changes to conform section numbering as a result of Federal Acquisition Circular (FAC) 01-09.

EFFECTIVE DATE: November 12, 2002.

FOR FURTHER INFORMATION CONTACT: Patrick Flynn, NASA, Office of Procurement, Contract Management Division (Code HK); (202) 358-0460; e-mail: patrick.flynn@hq.nasa.gov.

SUPPLEMENTARY INFORMATION:

A. Background

Executive Order 13149, “Greening the Government through Federal Fleet and Transportation Efficiency” requires, inter alia, that each agency operating 20 or more motor vehicles within the United States reduce its entire vehicle fleet's annual petroleum consumption by at least 20 percent by the end of FY 2005, compared with FY 1999 petroleum consumption levels. In order to achieve this goal, more centralized management and reporting is required. This change requires concurrence by installation transportation officers prior to contracting officer authorization of contractor requests to obtain IFMS vehicles. This change will assure transportation management participation in the contract authorization process. Additionally, this final rule revises section designations within part 1808 as a result of changes made by FAC 01-09.

This is not a significant regulatory action and, therefore, was not subject to review under section 6(b) of Executive Order 12866, Regulatory Planning and Review, dated September 30, 1993. This final rule in not a major rule under 5 U.S.C. 804.

B. Regulatory Flexibility Act

This final rule does not constitute a significant revision within the meaning of FAR 1.501 and Pub. L. 98-577, and publication for public comment is not required. However, NASA will consider comments from small entities concerning the affected NFS parts 1808 and 1851 in accordance with 5 U.S.C. 610.

C. Paperwork Reduction Act

The Paperwork Reduction Act does not apply because the changes do not impose recordkeeping or information collection requirements which require the approval of the Office of Management and Budget under 44 U.S.C. 3501, et seq.

List of Subjects in 48 CFR Parts 1808 and 1851

Government procurement.

Tom Luedtke,
Assistant Administrator for Procurement.

Accordingly, 48 CFR Parts 1808 and 1851 are amended as follows:

1. The authority citation for 48 CFR parts 1808 and 1851 continues to read as follows:

Authority: 42 U.S.C. 2473(c)(1)

PART 1808—REQUIRED SOURCES OF SUPPLIES AND SERVICES

2. Section 1808.002 is redesignated as section 1808.003.

3. Section 1808.002-70 is redesignated as section 1808.003-70.

4. Section 1808.002-71 is redesignated as section 1808.003-71.

5. Section 1808.002-72 is redesingated as section 1808.003-72.

6. Section 1808.002-75 is redesignated as section 1808.003-73.

PART 1851—USE OF GOVERNMENT SOURCES BY CONTRACTORS

7. Add subpart 1851.2 to read as follows:

Subpart 1851.2—Contractor Use of Interagency Fleet Management System (IFMS) Vehicles

1851.202 Authorization.

(a) The contracting officer shall obtain concurrence from the Transportation Officer before authorizing a cost-reimbursement contractor to obtain interagency fleet management system (IFMS) vehicles or related services.

[FR Doc. 02-28541 Filed 11-8-02; 8:45 am]

BILLING CODE 7510-01-P